FEDERAL COMMUNICATIONS COMMISSION

Report No. 2380

Petitions for Reconsideration and Clarification of Action In Rulemaking Proceedings

January 14, 2000.

Petitions for Reconsideration and Clarification has been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by February 7, 2000. See Section 1.4(b)(1) of the Commission's rules (47 CFR 1.4(b)(1)). Replies to an opposition must be filed within 10 days after the time for filing oppositions has expired.

Subject: Implementation of the Telecommunications Act of 1996 (CC Docket No. 96-115).

Telecommunications Carrier's Use of Customer Proprietary Network Information and Other Customer Information.

Implementation of the Local Competition Provisions of the Telecommunications Act of 1996 (CC Docket No. 96-98).

Provision of Directory Listing Information Under the Telecommunications Act of 1934, As Amended (CC Docket No. 99-273).

Number of Petitions Filed: 1.

Subject: Modification and Clarification of Policies and Procedures Governing Siting and Maintenance of Amateur Radio Antennas and Support Structures, and Amendment of Section 97.15 of the Rules Governing the Amateur Radio Service (RM-8763).

Number of Petitions Filed: 1.

Federal Communications Commission.
Magalie Roman Salas,
Secretary.

[FR Doc. 00-1462 Filed 1-20-00;8:45am]

BILLING CODE 6712-01-M